DEPARTMENT OF VETERANS AFFAIRS

38 CFR Part 21

RIN 2900-AI74

Veterans Training: Vocational Rehabilitation Subsistence Allowance Rates

AGENCY: Department of Veterans Affairs.

ACTION: Final rule.

SUMMARY: By statute, VA must determine each fiscal year what increase, if any, VA will pay in the monthly rates of basic subsistence allowance payable under 38 U.S.C. chapter 31. The statute provides a formula for this increase. We are changing the regulations governing the rates of basic subsistence allowance VA will pay under 38 U.S.C. chapter 31 to show the increases in these rates for fiscal years 1996 through 2000. To reflect a statutory change, we are also changing the regulations to include rates for fiscal years 1995 through 2000 for certain training or work experience in a facility of an agency of a federally recognized Indian tribe. In addition, we are correcting a typographical error in the fiscal year 1995 rates, making changes to conform to statutory language, and making nonsubstantive changes to improve clarity.

DATES: Effective Date: This final rule is effective August 25, 2000.

Applicability Dates: To conform to statutory requirements, the changes to rate provisions apply retroactively to the dates shown in the SUPPLEMENTARY INFORMATION section.

FOR FURTHER INFORMATION CONTACT: Charles Graffam, Vocational Rehabilitation and Employment Service, Veterans Benefits Administration, (202) 273-7410.

SUPPLEMENTARY INFORMATION: VA must annually determine what increase, if any VA will pay in the rates of subsistence allowance under 38 U.S.C. chapter 31 for programs of education under a formula in 38 U.S.C. 3108. The formula specifies the base subsistence allowance rates that were effective for the fiscal year beginning October 1, 1993. Under the formula, the effective date of any later annual increase is October 1, beginning October 1, 1994. Each October 1, subsistence allowance rates have increased by a percentage. To find this percentage increase for a particular fiscal year, look at the total of the monthly Consumer Price Index—W (CPI-W) for the 12-month periods that ended on the preceding June 30 and on the June 30 before that. If the CPI-W for the later year exceeds the earlier year, subtract the earlier year's CPI-W from the later year's CPI-W. The result is the allowable percentage increase in subsistence allowance for that fiscal year.

Under that formula, we are changing the regulations in 38 CFR 21.260 governing monthly rates to reflect increases for fiscal years 1996 through 2000, the fiscal years beginning on October 1 of 1995, 1996, 1997, 1998, and 1999, respectively:

Percentage increase | Effective date
2.9 | October 1, 1995.
2.7 | October 1, 1996.
2.8 | October 1, 1997.
1.6 | October 1, 1998.
1.6 | October 1, 1999.

Also, we are adding language to the regulations governing monthly rates to reflect a statutory change by Public Law 103-446, effective November 2, 1994. This change adds rates for subsistence allowance for nonpay or nominal pay on-job training or work experience in a facility of a federally recognized Indian tribal agency.

In addition, in 38 CFR 21.260(b) the table concerning rates effective October 1, 1994 (but not the information used in making actual payments) had a typographical error. The table should have shown $465.08 instead of $465.88. We are correcting that error.

Further, we are making changes to conform to statutory language and nonsubstantive changes to improve clarity.

The changes for fiscal year 1995 payable after September 30, 1994, and before November 2, 1994, are applied retroactively from October 1, 1994, as set out in the regulations, under the provisions of 38 U.S.C. 3108. The changes for fiscal year 1995 that include language reflecting a statutory change by Public Law 103-446 are applied retroactively from November 2, 1994, as set out in the regulations, under 38 U.S.C. 3108 and Public Law 103-446. The changes for fiscal years 1996 through 2000 are applied retroactively from October 1, 1995, October 1, 1996, October 1, 1997, October 1, 1998, or October 1, 1999, as respectively set out in the regulations, under 38 U.S.C. 3108 and Public Law 103-446.

Administrative Procedure Act

Changes that this final rule makes merely reflect statutory requirements and adjustments under a statutorily mandated formula; correct a typographical error; and make nonsubstantive changes to improve clarity. Accordingly, there is a basis for dispensing with notice-and-comment and a delayed effective date under 5 U.S.C. 552 and 553.

Unfunded Mandates

The Unfunded Mandates Reform Act requires, at 2 U.S.C. 1532, that agencies prepare an assessment of anticipated costs and benefits before developing any rule that may result in an expenditure by State, local, or tribal governments, in the aggregate, or by the private sector, of $100 million or more in any given year. This final rule will have no consequential effect on State, local, or tribal governments.

Regulatory Flexibility Act

The Secretary of Veterans Affairs hereby certifies that this final rule will not have a significant economic impact on a substantial number of small entities as they are defined in the Regulatory Flexibility Act, 5 U.S.C. 601-612. This final rule directly affects only individuals and does not directly affect small entities. Therefore, under 5 U.S.C. 605(b), this final rule is exempt from the initial and final regulatory flexibility analyses requirements of sections 603 and 604.

The Catalog of Federal Domestic Assistance number for the program affected by this final rule is 64.116.

List of Subjects in 38 CFR Part 21

Administrative practice and procedure, Armed forces, Civil rights, Claims, Colleges and universities, Conflict of interests, Defense Department, Education, Employment, Grant programs-education, Grant programs-veterans, Health care, Loan programs-education, Loan programs-veterans, Manpower training programs, Reporting and recordkeeping requirements, Schools, Travel and transportation expenses, Veterans, Vocational education, Vocational rehabilitation.

Approved: August 14, 2000.
Hershel W. Gober,
Acting Secretary of Veterans Affairs.

For the reasons set out above, 38 CFR part 21 (subpart A) is amended as set forth below:

PART 21—VOCATIONAL REHABILITATION AND EDUCATION

Subpart A—Vocational Rehabilitation Under 38 U.S.C. Chapter 31

1. The authority citation for part 21, subpart A is revised to read as follows:

Authority: 38 U.S.C. 501(a), 3100-3121, unless otherwise noted.

2. In § 21.260, paragraphs (a), (b), and (c) are revised to read as follows:

§ 21.260 Subsistence allowance.

(a) General. A veteran participating in a rehabilitation program under 38 U.S.C. Chapter 31 will receive a monthly subsistence allowance at the rates in paragraph (b) of this section, unless the veteran elects to receive payment at the rate of monthly educational assistance allowance payable under 38 U.S.C. Chapter 30 for the veteran's type of training. See § 21.264 for election of payment at the Chapter 30 rate and §§ 21.7136, 21.7137, and 21.7138 to determine the applicable Chapter 30 rate.

(Authority: 38 U.S.C. 3108(a), 3108(f))

(b) Rate of payment. VA pays subsistence allowance at the rates stated in the following tables:

(1) Subsistence allowance is paid at the following rates effective October 1, 1994, and before November 2, 1994:

Type of program | No dependents | One dependent | Two dependents | Additional amount for each dependent over two
Institutional: ¹
Full-time | $374.93 | $465.08 | $548.05 | $39.95
¾ time | 281.71 | 349.32 | 409.76 | 30.73
½ time | 188.49 | 233.56 | 274.54 | 20.49
Nonpay or nominal pay on-job training in a Federal, State, or local agency; training in the home; vocational course in a rehabilitation facility or sheltered workshop; independent instructor:
Full-time only | 374.93 | 465.08 | 548.05 | 39.95
Nonpay or nominal pay work experience in a Federal, State, or local agency:
Full-time | 374.93 | 465.08 | 548.05 | 39.95
¾ time | 281.71 | 349.32 | 409.76 | 30.73
½ time | 188.49 | 233.56 | 274.54 | 20.49
Farm cooperative, apprenticeship, or other on-job training: ²
Full-time only | 327.81 | 396.44 | 456.88 | 29.71
Combination of institutional and OJT (Full-time only):
Institutional greater than ½ time | 374.93 | 465.08 | 548.05 | 39.45
OJT greater than ½ time | 327.81 | 396.44 | 456.88 | 29.71
Non-farm cooperative (Full-time only):
Institutional | 374.93 | 465.08 | 548.05 | 39.95
On-job | 327.81 | 396.44 | 456.88 | 29.71
Improvement of rehabilitation potential:
Full-time only | 374.93 | 465.08 | 548.05 | 39.95
¾ time | 281.71 | 349.32 | 409.76 | 30.73
½ time | 188.49 | 233.56 | 274.54 | 20.49
¼ time ³ | 94.24 | 116.78 | 137.27 | 10.24
¹ For measurement of rate of pursuit, see §§ 21.4270 through 21.4275.
² For on-job training, subsistence allowance may not exceed the difference between the monthly training wage, not including overtime, and the entrance journeyman wage for the veteran's objective.
³ The quarter-time rate may be paid only during extended evaluation.

(2) Subsistence allowance is paid at the following rates effective November 2, 1994, and before October 1, 1995:

Type of program | No dependents | One dependent | Two dependents | Additional amount for each dependent over two
Institutional: ¹
Full-time | $374.93 | $465.08 | $548.05 | $39.95
¾ time | 281.71 | 349.32 | 409.76 | 30.73
½ time | 188.49 | 233.56 | 274.54 | 20.49
Nonpay or nominal pay on-job training in a facility of a Federal, State, local, or federally recognized Indian tribe agency; training in the home; vocational course in a rehabilitation facility or sheltered workshop; independent instructor:
Full-time only | 374.93 | 465.08 | 548.05 | 39.95
Nonpay or nominal pay work experience in a facility of a Federal, State, local, or federally recognized Indian tribe agency:
Full-time | 374.93 | 465.08 | 548.05 | 39.95
¾ time | 281.71 | 349.32 | 409.76 | 30.73
½ time | 188.49 | 233.56 | 274.54 | 20.49
Farm cooperative, apprenticeship, or other on-job training: ²
Full-time only | 327.81 | 396.44 | 456.88 | 29.71
Combination of institutional and OJT (Full-time only):
Institutional greater than ½ time | 374.93 | 465.08 | 548.05 | 39.45
OJT greater than ½ time | 327.81 | 396.44 | 456.88 | 29.71
Non-farm cooperative (Full-time only):
Institutional | 374.93 | 465.08 | 548.05 | 39.95
On-job | 327.81 | 396.44 | 456.88 | 29.71
Improvement of rehabilitation potential:
Full-time only | 374.93 | 465.08 | 548.05 | 39.95
¾ time | 281.71 | 349.32 | 409.76 | 30.73
½ time | 188.49 | 233.56 | 274.54 | 20.49
¼ time ³ | 94.24 | 116.78 | 137.27 | 10.24
¹ For measurement of rate of pursuit, see §§ 21.4270 through 21.4275.
² For on-job training, subsistence allowance may not exceed the difference between the monthly training wage, not including overtime, and the entrance journeyman wage for the veteran's objective.
³ The quarter-time rate may be paid only during extended evaluation.

(3) The following table states the monthly rates of subsistence allowance payable for participation in a rehabilitation program under 38 U.S.C. Chapter 31 that occurs after September 30, 1995, and before October 1, 1996:

Type of program | No dependents | One dependent | Two dependents | Additional amount for each dependent over two
Institutional:¹
Full-time | $385.80 | $478.57 | $563.94 | $41.11
¾ time | 289.88 | 359.45 | 421.64 | 31.62
½ time | 193.96 | 240.33 | 282.50 | 21.08
Nonpay or nominal pay on-job training in a facility of a Federal, State, local, or federally recognized Indian tribe agency; training in the home; vocational course in a rehabilitation facility or sheltered workshop; independent instructor:
Full-time only | 385.80 | 478.57 | 563.94 | 41.11
Nonpay or nominal pay work experience in a facility of a Federal, State, local, or Indian tribe agency:
Full-time | 385.80 | 478.57 | 563.94 | 41.11
¾ time | 289.88 | 359.45 | 421.64 | 31.62
½ time | 193.96 | 240.33 | 282.50 | 21.08
Farm cooperative, apprenticeship, or other on-job training (OJT): ²
Full-time only | 337.32 | 407.94 | 470.13 | 30.57
Combination of institutional and OJT (Full-time only):
Institutional greater than ½ time | 385.80 | 478.57 | 563.94 | 41.11
OJT greater than ½ time ² | 337.32 | 407.94 | 470.13 | 30.57
Non-farm cooperative (Full-time only):
Institutional | 385.80 | 478.57 | 563.94 | 41.11
On-job ² | 337.32 | 407.94 | 470.13 | 30.57
Improvement of rehabilitation potential:
Full-time only | 385.80 | 478.57 | 563.94 | 41.11
¾ time | 289.88 | 359.45 | 421.64 | 31.62
½ time | 193.96 | 240.33 | 282.50 | 21.08
¼ time ³ | 96.97 | 120.17 | 141.25 | 10.54
¹ For measurement of rate of pursuit, see §§ 21.4270 through 21.4275.
² For on-job training, subsistence allowance may not exceed the difference between the monthly training wage, not including overtime, and the entrance journeyman wage for the veteran's objective.
³ The quarter-time rate may be paid only during extended evaluation.

(4) The following table states the monthly rates of subsistence allowance payable for participation in a rehabilitation program under 38 U.S.C. Chapter 31 that occurs after September 30, 1996, and before October 1, 1997:

Type of program | No dependents | One dependent | Two dependents | Additional amount for each dependent over two
Institutional: ¹
Full-time | $396.22 | $491.49 | $579.17 | $42.22
¾time | 297.71 | 369.16 | 433.02 | 32.47
½ time | 199.20 | 246.82 | 290.13 | 21.65
Nonpay or nominal pay on-job training in a facility of a Federal, State, local, or federally recognized Indian tribe agency; training in the home; vocational course in a rehabilitation facility or sheltered workshop; independent instructor:
Full-time only | 396.22 | 491.49 | 579.17 | 42.22
Nonpay or nominal pay work experience in a facility of a Federal, State, local, or federally recognized Indian tribe agency:
Full-time | 396.22 | 491.49 | 579.17 | 42.22
¾ time | 297.71 | 369.16 | 433.02 | 32.47
½ time | 199.20 | 246.82 | 290.13 | 21.65
Farm cooperative, apprenticeship, or other on-job training (OJT) ²
Full-time only | 346.43 | 418.95 | 482.82 | 31.40
Combination of institutional and OJT (Full-time only):
Institutional greater than ½ time | 396.22 | 491.49 | 579.17 | 42.22
OJT greater than ½ time ² | 346.43 | 418.95 | 482.82 | 31.40
Non-farm cooperative (Full-time only):
Institutional | 396.22 | 491.49 | 579.17 | 42.22
On-job ² | 346.43 | 418.95 | 482.82 | 31.40
Improvement of rehabilitation potential:
Full-time only | 396.22 | 491.49 | 579.17 | 42.22
¾ time | 297.71 | 369.16 | 433.02 | 32.47
½ time | 199.20 | 246.82 | 290.13 | 21.65
¼ time ³ | 99.59 | 123.41 | 145.06 | 10.82
¹ For measurement of rate of pursuit, see §§ 21.4270 through 21.4275.
² For on-job training, subsistence allowance may not exceed the difference between the monthly training wage, not including overtime, and the entrance journeyman wage for the veteran's objective.
³ The quarter-time rate may be paid only during extended evaluation.

(5) The following table states the monthly rates of subsistence allowance payable for participation in a rehabilitation program under 38 U.S.C. Chapter 31 that occurs after September 30, 1997, and before November 1, 1998:

Type of program | No dependents | One dependent | Two dependents | Additional amount for each dependent over two
Institutional: ¹
Full-time | $407.31 | $505.25 | $595.39 | $43.40
¾ time | 306.05 | 379.50 | 445.14 | 33.38
½ time | 204.78 | 253.73 | 298.25 | 22.26
Nonpay or nominal pay on-job training in a facility of a Federal, State, local, or federally recognized Indian tribe agency; training in the home; vocational course in a rehabilitation facility or sheltered workshop; independent instructor:
Full-time only | 407.31 | 505.25 | 595.39 | 43.40
Nonpay or nominal pay work experience in a facility of a Federal, State, local, or federally recognized Indian tribe agency:
Full-time | 407.31 | 505.25 | 595.39 | 43.40
¾ | 306.05 | 379.50 | 445.14 | 33.38
½ time | 204.78 | 253.73 | 298.25 | 22.26
Farm cooperative, apprenticeship, or other on-job training (OJT): ²
Full-time only | 356.13 | 430.68 | 496.34 | 32.28
Combination of institutional and OJT (Full-time only):
Institutional greater than ½ time | 407.31 | 505.25 | 595.39 | 43.40
OJT greater than ½ time ² | 356.13 | 430.68 | 496.34 | 32.28
Non-farm cooperative (Full-time only):
Institutional | 407.31 | 505.25 | 595.39 | 43.40
On-job ² | 356.13 | 430.68 | 496.34 | 32.28
Improvement of rehabilitation potential:
Full-time only | 407.31 | 505.25 | 595.39 | 43.40
¾ time | 306.05 | 379.50 | 445.14 | 33.38
½ time | 204.78 | 253.73 | 298.25 | 22.26
¼ time ³ | 102.38 | 126.87 | 148.09 | 11.12
¹For measurement of rate of pursuit, see §§ 21.4270 through 21.4275.
² For on-job training, subsistence allowance may not exceed the difference between the monthly training wage, not including overtime, and the entrance journeyman wage for the veteran's objective.
³ The quarter-time rate may be paid only during extended evaluation.

(6) The following table states the monthly rates of subsistence allowance payable for participation in a rehabilitation program under 38 U.S.C. Chapter 31 that occurs after September 30, 1998, and before October 1, 1999:

Type of program | No dependents | One dependent | Two dependents | Additional amount for each dependent over two
Institutional: ¹
Full-time | $413.83 | $513.33 | $604.92 | $44.09
¾ time | 310.95 | 385.57 | 452.26 | 33.91
½ time | 208.06 | 257.79 | 303.02 | 22.62
Nonpay or nominal pay on-job training in a facility of a Federal, State, local, or federally recognized Indian tribe agency; training in the home; vocational course in a rehabilitation facility or sheltered workshop; independent instructor:
Full-time only | 413.83 | 513.33 | 604.92 | 44.09
Nonpay or nominal pay work experience in a facility of a Federal, State, local, or federally recognized Indian tribe agency:
Full-time | 413.83 | 513.33 | 604.92 | 44.09
¾ time | 310.95 | 385.57 | 452.26 | 33.91
½ time | 208.06 | 257.79 | 303.02 | 22.62
Farm cooperative, apprenticeship, or other on-job training (OJT): ²
Full-time only | 361.83 | 437.57 | 504.28 | 32.80
Combination of institutional and OJT (Full-time only):
Institutional greater than ½ time | 413.83 | 513.33 | 604.92 | 44.09
OJT greater than ½ time ² | 361.83 | 437.57 | 504.28 | 32.80
Non-farm cooperative (Full-time only):
Institutional | 413.83 | 513.33 | 604.92 | 44.09
On-job ² | 361.83 | 437.57 | 504.28 | 32.80
Improvement of rehabilitation potential:
Full-time only | 413.83 | 513.33 | 604.92 | 44.09
¾ time | 310.95 | 385.57 | 452.26 | 33.91
½ time | 208.06 | 257.79 | 303.02 | 22.62
¼ time ³ | 104.02 | 128.90 | 151.51 | 11.30
¹ For measurement of rate of pursuit, see §§ 21.4270 through 21.4275.
² For on-job training, subsistence allowance may not exceed the difference between the monthly training wage, not including overtime, and the entrance journeyman wage for the veteran's objective.
³ The quarter-time rate may be paid only during extended evaluation.

(7) The following table states the monthly rates of subsistence allowance payable for participation in a rehabilitation program under 38 U.S.C. Chapter 31 that occurs after September 30, 1999, and before October 1, 2000:

Type of program | No dependents | One dependent | Two dependents | Additional amount for each dependent over two
Institutional:¹
Full-time | $420.45 | $521.54 | $614.60 | $44.80
¾ time | 315.93 | 391.74 | 459.50 | 34.45
½ time | 211.39 | 261.91 | 307.87 | 22.98
Nonpay or nominal pay on-job training in a Federal, State, local, or federally recognized Indian tribe agency; training in the home; vocational course in a rehabilitation facility or sheltered workshop; independent instructor; institutional non-farm cooperative:
Full-time only | 420.45 | 521.54 | 614.60 | 44.80
Nonpay or nominal pay work experience in a Federal, State, local, or federally recognized Indian tribe agency:
Full-time only | 420.45 | 521.54 | 614.60 | 44.80
¾ time | 315.93 | 391.74 | 459.50 | 34.45
½ time | 211.39 | 261.91 | 307.87 | 22.98
Farm cooperative, apprenticeship, or other on-job training (OJT):²
Full-time only | 367.62 | 444.57 | 512.35 | 33.32
Combination of institutional and OJT (Full-time only):
Institutional greater than ½ time | 420.45 | 521.54 | 614.60 | 44.80
OJT greater than ½ time² | 367.62 | 444.57 | 512.35 | 33.32
Non-farm cooperative (Full-time only):
Institutional | 420.45 | 521.54 | 614.60 | 44.80
On-job ² | 367.62 | 444.57 | 512.35 | 33.32
Improvement of rehabilitation potential:
Full-time | 420.45 | 521.54 | $614.60 | $44.80
¾ time | 315.93 | 391.74 | 459.50 | 34.45
½ time | 211.39 | 261.91 | 307.87 | 22.98
¼ time ³ | 105.98 | 130.96 | 153.93 | 11.48
¹ For measurement of rate of pursuit, see §§ 21.4270 through 21.4275.
² For on-job training, subsistence allowance may not exceed the difference between the monthly training wage, not including overtime, and the entrance journeyman wage for the veteran's objective.
³ The quarter-time rate may be paid only during extended evaluation. (Authority: 38 U.S.C. 3108, 3115(a)(1); Pub. L. 103-446)

(c) Subsistence allowance precluded. A veteran may not receive a subsistence allowance when VA is providing the veteran only the following services:

(1) Initial evaluation;

(2) Placement and post-placement services under 38 U.S.C. 3105(b); or

(3) Counseling.

(Authority: 38 U.S.C. 3108 (a)(1) and (a)(3))

* * * * *

[FR Doc. 00-21722 Filed 8-24-00; 8:45 am]

BILLING CODE 8320-01-P